DEPARTMENT OF HEALTH AND HUMAN SERVICES

Meeting of the National Preparedness and Response Science Board

AGENCY: Office of the Secretary, Department of Health and Human Services.

ACTION: Notice.

SUMMARY: As stipulated by the Federal Advisory Committee Act, the Department of Health and Human Services (HHS) is hereby giving notice that the National Preparedness and Response Science Board (NPRSB) will be holding a public teleconference.

DATES: The NPRSB will hold a public meeting on July 29, 2016, from 4:00 p.m. to 5:00 p.m. EST. The agenda is subject to change as priorities dictate.

ADDRESSES: Individuals who wish to participate should send an email to NPRSB@HHS.GOV with “NPRSB Registration” in the subject line. The meeting will occur by teleconference. To attend via teleconference and for further instructions, please visit the NPRSB Web site at HTTP://WWW.PHE.GOV/NPRSB.

FOR FURTHER INFORMATION CONTACT: Please submit an inquiry via the NPRSB Contact Form located at: http://www.phe.gov/Preparedness/legal/boards/nprsb/Pages/RFNBSBComments.aspx.

SUPPLEMENTARY INFORMATION: Pursuant to section 319M of the Public Health Service Act (42 U.S.C. 247d-7f) and section 222 of the Public Health Service Act (42 U.S.C. 217a), HHS established the NPRSB. The Board shall provide expert advice and guidance to the Secretary on scientific, technical, and other matters of special interest to HHS regarding current and future chemical, biological, nuclear, and radiological agents, whether naturally occurring, accidental, or deliberate. The NPRSB may also provide advice and guidance to the Secretary and/or the Assistant Secretary for Preparedness and Response on other matters related to public health emergency preparedness and response.

Background: This public meeting via teleconference will be dedicated to the NPRSB's deliberation and vote on the Public Health Emergency Medical Countermeasures Enterprise Medical Countermeasures Preparedness Assessment report. Subsequent agenda topics will be added as priorities dictate. Any additional agenda topics will be available on the NPRSB July 29, 2016, meeting Web page, available at HTTP://WWW.PHE.GOV/NPRSB.

Availability of Materials: The meeting agenda and materials will be posted prior to the meeting on the July 29th meeting Web page at HTTP://WWW.PHE.GOV/NPRSB.

Procedures for Providing Public Input: Members of the public are invited to attend by teleconference via a toll-free call-in phone number which is available on the NPRSB Web site at HTTP://WWW.PHE.GOV/NPRSB. All members of the public are encouraged to provide written comment to the NPRSB. All written comments must be received prior to July 29, 2016, and should be sent by email to NPRSB@HHS.GOV with “NPRSB Public Comment” as the subject line. Public comments received by close of business one week prior to each teleconference will be distributed to the NPRSB in advance.

Dated: July 5, 2016.
Nicole Lurie,
Assistant Secretary for Preparedness and Response.

[FR Doc. 2016-16409 Filed 7-11-16; 8:45 am]

BILLING CODE P